DEPARTMENT OF COMMERCE

National Oceanic and Atmospheric Administration

RIN 0648-XE552

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application submitted by The Nature Conservancy contains all of the required information and warrants further consideration. This Exempted Fishing Permit would allow participants to use electronic monitoring systems in lieu of at-sea monitors in support of a study to develop electronic monitoring for the purposes of catch monitoring in the groundfish fishery.

Regulations under the Magnuson-Stevens Fishery Conservation and Management Act require publication of this notification to provide interested parties the opportunity to comment on applications for proposed Exempted Fishing Permits.

DATES: Comments must be received on or before April 26, 2016.

ADDRESSES: You may submit written comments by any of the following methods:

• Email: nmfs.gar.efp@noaa.gov. Include in the subject line “TNC EM EFP.”

• Mail: John K. Bullard, Regional Administrator, NMFS, Greater Atlantic Regional Fisheries Office, 55 Great Republic Drive, Gloucester, MA 01930. Mark the outside of the envelope “TNC EM EFP.”

FOR FURTHER INFORMATION CONTACT: Brett Alger, Groundfish Sector Policy Analyst, 978-675-2153.

SUPPLEMENTARY INFORMATION: In 2010, NMFS implemented Amendment 16 to the Northeast (NE) Multispecies Fishery Management Plan (FMP), which revised and expanded the sector management system and established annual catch limits and accountability measures for each stock in the fishery. In order to reliably estimate sector catch and monitor sector operations, Amendment 16 included new requirements for groundfish sectors to implement and fund an at-sea monitoring (ASM) program. Amendment 16 also included a provision that allows electronic monitoring (EM) to be used to satisfy this monitoring requirement, provided NMFS deems the technology sufficient for the purposes of catch accounting. There are likely different visions for what an EM system entails, but generally EM incorporates video cameras, sensors, and electronic reporting systems into a vessel's fishing operations. Depending on the program design, EM has the potential to reduce the expenses associated with monitoring groundfish sectors, and, at the same time, increase accountability and monitoring in the fishery. However, moving away from human observers has its trade-offs; the types and quality of data can be different between EM and ASMs. Simply stated, EM may be a suitable replacement to ASM, provided EM has the ability to identify species, and verify weights and counts of discards in the groundfish fishery.

For the groundfish fishery, the program designs being considered are the “audit model” and the “maximized retention model.” The audit model would use EM to verify discards reported by a captain on a vessel trip report. Under the maximized retention model, vessels would be required to retain most fish species (e.g., allocated groundfish stocks), be allowed to discard others (e.g., protected species), and EM would be used to ensure compliance with discarding regulations. NMFS has not yet approved EM as a suitable alternative to ASM for the groundfish fishery. However, there have been several efforts in recent years to develop EM as a monitoring tool in the fishery.

NMFS has been collaborating with The Nature Conservancy (TNC), the Gulf of Maine Research Institute, the Maine Coast Fishermen's Association, the Cape Cod Commercial Fishermen's Alliance, and Ecotrust Canada to implement a program that uses EM for monitoring in the groundfish fishery. NMFS has been building database infrastructure and processing tools for data collected from EM video footage, conducting comparative analysis to the existing catch monitoring systems in the fishery, and addressing additional legal and logistical hurdles. However, there are some challenges that remain that will require additional EM data and analysis to resolve. For example, an EM program must specify how much video needs to be reviewed to satisfy the monitoring objectives, and best practices need to be developed for species that are difficult to identify using EM.

To further examine these issues and develop EM, TNC submitted a complete application for an EFP on March 17, 2016, to enable data collection activities and catch monitoring that the regulations on commercial fishing would otherwise restrict. The EFP would support an EM study intended to improve the functionality of EM systems, optimize fish handling protocols by participating fishermen, and continue development of EM as a monitoring tool for the groundfish fishery. Results of this study would be used to inform the approval and implementation of EM in the fishery.

The EFP would exempt participating vessels from adhering to its sector's monitoring plan, which requires the deployment of ASMs on sector trips selected for ASM coverage. While participating in the EM study, vessels would use EM to replace ASMs when selected for ASM coverage. EM would not replace Northeast Fishery Observer Program (NEFOP) observers. Approximately 20 sector vessels would participate in this project, including participants from the Georges Bank Cod Fixed Gear Sector, the Maine Coast Community Sector, the Northeast Fishery Sector 11, and possibly additional sectors as well.

Under the EFP, vessels would declare sector trips in the Pre-Trip Notification System, as required by the FMP. However, if selected for ASM coverage, the vessel would be issued an ASM waiver and instead be required to turn on the EM system for the entire fishing trip. If selected for NEFOP coverage, the vessel would fish with a NEFOP observer and would also turn on the EM system for the entire trip. A third-party provider would review 100 percent of the video from each EM trip, and NMFS would audit the provider(s) to verify the accuracy of the EM data collected. For sector monitoring, NMFS uses a combination of the discard data collected from NEFOP observers and ASMs to estimate discards. For vessels participating in this EFP, NMFS would use the EM data collected in place of the ASM data. All other catch monitoring under the EFP would be consistent with standard sector monitoring, such as using dealer-reported landings and vessel trip reports.

Across all participants, TNC expects approximately 900 total trips throughout the 2016 fishing year. If the target observer coverage was set at 14 percent, as proposed in Framework Adjustment 55 to the NE Multispecies FMP, this would result in approximately 126 EM trips. Some of these trips would have a NEFOP observer onboard as well.

All catch of groundfish stocks allocated to sectors by vessels would be deducted from the sector's annual catch entitlement for each NE multispecies stock. Legal-sized regulated groundfish would be retained and landed, as required by the FMP. Undersized groundfish would be handled according to the EM project guidelines in view of cameras and returned to the sea as quickly as possible. All other species would be handled per normal commercial fishing operations. No legal-size regulated groundfish would be discarded, unless otherwise permitted through regulatory exemptions granted to the participating vessel's sector.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 6, 2016.
Emily H. Menashes,
Acting Director, Office of Sustainable Fisheries, National Marine Fisheries Service.

[FR Doc. 2016-08256 Filed 4-8-16; 8:45 am]

BILLING CODE 3510-22-P